DEPARTMENT OF ENERGY

Federal Energy Regulatory Commission

[Docket No. EL18-147-000]

Notice of Complaint; Alabama Municipal Electric Authority and Cooperative Energy v. Alabama Power Company, Georgia Power Company, Gulf Power Company, Mississippi Power Company and Southern Company Services, Inc.

Take notice that on May 10, 2018, pursuant to sections 206 and 306, of the Federal Power Act, 16 U.S.C. 824e and 825e (2012) and Rule 206 of the Federal Energy Regulatory Commission's (Commission) Rules of Practice and Procedure, 18 CFR 385.206 (2018), Alabama Municipal Electric Authority and Cooperative Energy (collectively, Joint Complainants) filed a formal complaint against Alabama Power Company, Georgia Power Company, Gulf Power Company, Mississippi Power Company and Southern Company Services, Inc., acting as an agent for the transmission owning subsidiaries of the Southern Company (collectively, Southern Companies or Respondents) alleging that the 11.25% base return on common equity currently included in the formula transmission rate of the Southern Companies is unjust and unreasonable and should be reduced with refunds made effective as of the filing date of the Complaint, as more fully explained in the complaint.

Joint Complainants certify that copies of the complaint were served in accordance with rule 206(c).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on June 4, 2018.

Dated: May 15, 2018.
Nathaniel J. Davis, Sr.,
Deputy Secretary.

[FR Doc. 2018-10728 Filed 5-18-18; 8:45 am]

BILLING CODE 6717-01-P